FEDERAL COMMUNICATIONS COMMISSION

47 CFR Part 73

[MB Docket No. 25-107; RM-11997; DA 25-167; FR ID 282632]

Television Broadcasting Services Wichita, Kansas

AGENCY: Federal Communications Commission.

ACTION: Proposed rule.

SUMMARY: The Video Division, Media Bureau (Bureau), has before it a petition for rulemaking filed by Gray Television Licensee, LLC (Gray or Petitioner), the licensee of KSCW-DT, channel 12, Wichita, Kansas (Station or KSCW-DT). Petitioner requests that the Bureau substitute channel 12 for channel 28 at Wichita, Kansas in the Table of TV Allotments (table).

DATES: Comments must be filed on or before April 4, 2025 and reply comments on or before April 21, 2025.

ADDRESSES: Federal Communications Commission, Office of the Secretary, 45 L Street NE, Washington, DC 20554. In addition to filing comments with the FCC, interested parties should serve counsel for the Petitioner as follows: Joan Stewart, Esq., Wiley Rein LLP, 2050 M Street NW, Washington, DC 20036.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: On May 11, 2022, the Bureau granted a petition for rulemaking submitted by Gray to substitute channel 28 for channel 12 at Wichita for KSCW-DT. On June 21, 2022, Gray was granted a construction permit for its new channel, with an expiration date of June 21, 2025. In its Petition, Gray states that it is unable to complete construction of the channel 28 facility by the expiration date. Thus, Gray requests amendment of the table to allow it to continue to operate on channel 12, and proposes to specify the technical parameters of its currently licensed channel 12 facility.

We believe that the Petitioner's channel substitution proposal for KSCW-DT warrants consideration. KSCW-DT is currently operating on channel 12 and the substitution of channel 12 for channel 28 in the table will allow the Station to remain on the air and continue to provide service to viewers within its service area. Given that Gray proposes to utilize its currently licensed parameters, we believe channel 12 can be substituted for channel 28 at Wichita as proposed, in compliance with the principal community coverage requirements of section 73.618(a) of the Commission's Rules (Rules), at coordinates 38-03′-37.6″ N and 97-45′-49.7″ W. In addition, we find that this channel change meets the technical requirements set forth in section 73.622(a) of the Rules.

This is a synopsis of the Commission's Notice of Proposed Rulemaking, MB Docket No. 25-107; RM-11997; DA 25-167, adopted February 25, 2025, and released February 25, 2025. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Providing Accountability Through Transparency Act: The Providing Accountability Through Transparency Act, Public Law 118-9, requires each agency, in providing notice of a rulemaking, to post online a brief plain-language summary of the proposed rule. The required summary of this notice of proposed rulemaking is available at https://www.fcc.gov/proposed-rulemakings.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Kansas, revise the entry for “Wichita” to read as follows:

§ 73.622 Digital television table of allotments.

* * * * *

(j) * * *

Community | Channel No.
* * * * *
Kansas
* * * * *
Wichita | 10, 12, 15, 26
* * * * *

* * * * *

[FR Doc. 2025-03466 Filed 3-4-25; 8:45 am]

BILLING CODE 6712-01-P